DEPARTMENT OF THE INTERIOR

Bureau of Land Management

[CA-320-1820-XQ]

Resource Advisory Council Meeting: Northwest California Resource Advisory Council, Redding, CA

AGENCY: Bureau of Land Management, Interior.

ACTION: Notice of meeting.

SUMMARY: Pursuant to the authorities in the Federal Advisory Committees Act (Pub. L. 92-463) and the Federal Land Policy and Management Act (Pub. L. 94-579), the U. S. Bureau of Land Management's Northwest California Resource Advisory Council will meet Wednesday, Sept. 20, 2000, for a regular business meeting. The meeting is open to the public.

SUPPLEMENTARY INFORMATION: The meeting begins at 10 a.m. in the Conference Room of the BLM's Redding Field Office, 355 Hemsted Drive, Redding, CA. Items on the agenda include discussion of a feasibility study for Lake Berryessa management, an update on Headwaters Forest Reserve management, management issues in the Knoxville Off Highway Vehicle Area, and standards and guidelines for rangeland health. Time will be set aside at 1 p.m. for public comments. Depending on the number of persons wishing to speak, a time limit may be established.

FOR ADDITIONAL INFORMATION: Contact Lynda J. Roush, BLM Arcata Field Manager, at (707) 825-2300.

Joseph J. Fontana,
Public Affairs Officer.

[FR Doc. 00-21867 Filed 8-25-00; 8:45 am]

BILLING CODE 4310-40-P